DEPARTMENT OF ENERGY

Federal Energy Regulatory Commission

Combined Notice of Filings #1

Take notice that the Commission received the following electric rate filings:

Docket Numbers: ER14-2140-006; ER14-2141-006;ER15-632-006 ER15-634-006; ER14-2466-007; ER14-2465-007 ER15-1952-004; ER14-2939-004; ER15-2728-006.

Applicants: Mulberry Farm, LLC, Selmer Farm, LLC, CID Solar, LLC, Cottonwood Solar, LLC, RE Camelot LLC, RE Columbia Two LLC, Pavant Solar, LLC, Imperial Valley Solar Company (IVSC) 2, Maricopa West Solar PV, LLC.

Description: Supplement to April 26, 2017 Notice of Non-Material Change in Status of the Dominion Companies.

Filed Date: 6/7/17.

Accession Number: 20170607-5022.

Comments Due: 5 p.m. ET 6/28/17.

Docket Numbers: ER17-1488-001.

Applicants: PJM Interconnection, L.L.C.

Description: Tariff Amendment: Errata to attachments for SA No. 2554, Queue No. Z1-087 submitted in ER17-1488 to be effective 1/9/2017.

Filed Date: 6/6/17.

Accession Number: 20170606-5151.

Comments Due: 5 p.m. ET 6/27/17.

Docket Numbers: ER17-1760-000.

Applicants: Clean Energy Future—Lordstown, LLC.

Description: Request for Limited Waiver and Expedited Action of Clean Energy Future Lordstown, LLC.

Filed Date: 6/6/17.

Accession Number: 20170606-5087.

Comments Due: 5 p.m. ET 6/20/17.

Docket Numbers: ER17-1761-000.

Applicants: Clean Energy Future—Lordstown, LLC.

Description: Request for Limited Waiver and Expedited Action of Clean Energy Future—Lordstown, LLC.

Filed Date: 6/6/17.

Accession Number: 20170606-5106.

Comments Due: 5 p.m. ET 6/20/17.

Docket Numbers: ER17-1762-000.

Applicants: Mid-Atlantic Interstate Transmission, LLC, PJM Interconnection, L.L.C.

Description: § 205(d) Rate Filing: MAIT submits Interconnection Agreement SA No. 4562 to be effective 8/5/2017.

Filed Date: 6/6/17.

Accession Number: 20170606-5147.

Comments Due: 5 p.m. ET 6/27/17.

Docket Numbers: ER17-1763-000.

Applicants: Playa Solar 1, LLC.

Description: § 205(d) Rate Filing: Amended and Restated Shared Facilities Common Ownership Agreement to be effective 6/7/2017.

Filed Date: 6/6/17.

Accession Number: 20170606-5148.

Comments Due: 5 p.m. ET 6/27/17.

Docket Numbers: ER17-1764-000.

Applicants: Playa Solar 2, LLC.

Description: § 205(d) Rate Filing: Amended and Restated Shared Facilities Common Ownership Agreement to be effective 6/7/2017.

Filed Date: 6/6/17.

Accession Number: 20170606-5149.

Comments Due: 5 p.m. ET 6/27/17.

Docket Numbers: ER17-1765-000.

Applicants: Public Service Company of Colorado.

Description: § 205(d) Rate Filing: 20170606 Grand Valley Amended PPA to be effective 5/17/2017.

Filed Date: 6/6/17.

Accession Number: 20170606-5152.

Comments Due: 5 p.m. ET 6/27/17.

Docket Numbers: ER17-1766-000.

Applicants: Avista Corporation.

Description: § 205(d) Rate Filing: Avista Corp Rate Schedule No. T-0360 BPA WOH to be effective 6/7/2017.

Filed Date: 6/6/17.

Accession Number: 20170606-5153.

Comments Due: 5 p.m. ET 6/27/17.

Docket Numbers: ER17-1767-000.

Applicants: Public Service Company of Colorado.

Description: § 205(d) Rate Filing: 20170606 Yampa Valley 2nd Amended PPA to be effective 4/28/2017.

Filed Date: 6/6/17.

Accession Number: 20170606-5154.

Comments Due: 5 p.m. ET 6/27/17.

Docket Numbers: ER17-1768-000.

Applicants: Public Service Company of Colorado.

Description: § 205(d) Rate Filing: 20170606 4th Amended IREA PPA to be effective 4/28/2017.

Filed Date: 6/6/17.

Accession Number: 20170606-5155.

Comments Due: 5 p.m. ET 6/27/17.

Docket Numbers: ER17-1769-000.

Applicants: Solar Star Oregon II, LLC.

Description: Baseline eTariff Filing: Baseline new to be effective 12/31/9998.

Filed Date: 6/6/17.

Accession Number: 20170606-5156.

Comments Due: 5 p.m. ET 6/27/17.

Take notice that the Commission received the following qualifying facility filings:

Docket Numbers: QF17-1062-000.

Applicants: UE-00501MD, LLC.

Description: Form 556 of UE-00501MD, LLC.

Filed Date: 6/5/17.

Accession Number: 20170605-5117.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2017.
Kimberly D. Bose,
Secretary.

[FR Doc. 2017-12227 Filed 6-12-17; 8:45 am]

BILLING CODE 6717-01-P